DEPARTMENT OF THE INTERIOR

National Park Service

Notice of Scoping for Completion of El Portal Road Rehabilitation; Yosemite National Park, Mariposa County, CA

SUMMARY: Notice is hereby given, in accord with the provisions of the National Environmental Policy Act (42 U.S.C. 4321 et seq.) that public scoping has been initiated for a conservation planning and environmental impact analysis process for the completion of road improvements to the El Portal Road in Yosemite National Park. The purpose of the scoping process is to elicit public comment regarding applicable issues and concerns, a suitable range of alternatives, and the nature and extent of potential environmental impacts and appropriate mitigating measures which should be addressed. This project would result in completion of the Highway 140 improvements which began in 1997 following floods which extensively damaged the road. The proposed reconstruction would improve the one mile segment of the El Portal Road from the intersection of the Big Oak Flat Road (Highway 120) and the El Portal Road (Highway 140) to the west, and Pohono Bridge to the east (also known as Segment D). The pending environmental analysis will evaluate alternatives, including a no-action alternative, and one or more action alternatives. Some of the project elements that may be evaluated include:

• Reconstructing failing retaining walls and undercut road sections;

• Altering the lane and/or the shoulder to enhance traffic safety;

• Replacing portions of the existing stone wall with a reinforced concrete guardwall;

• Improving the El Portal Road-Big Oak Flat Road intersection;

• Improving, relocating, and/or removing some parking spaces;

• Improving road drainage with new culverts and drainage ditches;

• Repaving road surfaces; and

• Maintaining the road's essential historic character as a winding, narrow mountain road.

Public Involvement: As noted, the NPS will conduct an environmental review of feasible alternatives and potential impacts on rehabilitation of segment of road corridor. At this time, it has not been determined whether an Environmental Assessment or an Environmental Impact Statement will be prepared, however, this scoping process will aid in the preparation of either document. This environmental review of a reasonable range of alternatives for rehabilitation this segment of the El Portal Road is being conducted by Yosemite National Park. As a key step for initiating this environmental review, the park invites the public, other Federal agencies, American Indian tribes, State and local governments, and all other interested parties to participate in the initial scoping and alternative development process. For initial scoping and alternatives development, the most useful comments are those which aid the park in identifying environmental issues, public concerns, and pertinent information that can be used to help:

• Determine resource issues and visitor concerns that may need to be evaluated;

• Formulate alternatives for fulfilling the purpose and need for the proposed project; and/or

• Identify potential cumulative actions and/or appropriate mitigation strategies which should be considered.

Responses to this Scoping Notice will also be used to establish a mailing list of people and organizations interested in receiving further information as the environmental document is developed. Please contact the park by mail, e-mail, or fax (see below) to request placement on the mailing list; for all types of requests please be sure to include your full mailing address. In addition to direct mailings, additional information about this conservation planning and environmental impact analysis process will be regularly distributed via regional and local news media and by posting to the Yosemite National Park Web page (http://www.nps.gov/yose/planning).

The public scoping period for this Segment D environmental review will be open for 45 days from the date of publication of this Scoping Notice in the Federal Register—immediately upon confirmation of this date it will be announced on the park's Web site. Scoping meetings and public open houses will be held on a regular basis in Yosemite National Park, California. Specific locations and dates for these meetings will be announced in local and regional media and via direct mailings. Interested individuals, organizations, and agencies wishing to provide written comments on issues and concerns or provide pertinent information may by mail to: Superintendent, ATTN: El Portal Road Rehabilitation, Yosemite National Park, PO Box 577, Yosemite National Park, CA 95389; via Fax at (209) 379-1294; or electronically via yose_planning@nps.gov.

Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Decision Process: Availability of the forthcoming environmental document for public review and written comment will be announced by local and regional news media, via the above listed Web site, and by direct mailing. At this time, the document is anticipated to be available for public review and comment in summer of 2007. All comments received will be duly considered in the environmental decision-making process and responded to as appropriate. At this time, it is anticipated that a final decision will be recommended during autumn of 2007. The official responsible for the decision is the Regional Director, Pacific West Region, National Park Service; subsequently, the official responsible for implementation is the Superintendent, Yosemite National Park.

Dated: August 29, 2006.
Jonathan B. Jarvis,
Regional Director, Pacific West Region.

[FR Doc. 06-9188 Filed 11-13-06; 8:45 am]

BILLING CODE 4312-FY-M